DEPARTMENT OF TRANSPORTATION

Federal Highway Administration

Environmental Impact Statement: King County, Washington

AGENCY: Federal Highway Administration (FHWA), DOT.

ACTION: Notice Of Intent.

SUMMARY: The FHWA is issuing this notice of intent to advise the public that an Environmental Impact Statement will be prepared for a proposed highway project in King County, Washington northeast of the city of North Bend.

FOR FURTHER INFORMATION CONTACT: Victoria Peters, Design Operations Engineer, Federal Highway Administration, 610 East Fifth Street, Vancouver, Washington 98661, telephone (360) 696-7700.

SUPPLEMENTARY INFORMATION: The FHWA, in partnership with the U.S. Forest Service, Washington Department of Transportation and King County, Washington, will prepare an environmental impact statement (EIS) on a proposal to improve Washington Forest Highway 29 locally known as the Middle Fork Snoqualmie River Road or Lake Dorothy Road. Forest Highway 29 begins at Interstate 90 (M.P. 34) and terminates at the Middle Fork—Taylor River Trailhead. The entire Forest Highway route is 12.1 miles. The proposed project will improve the uppermost 10.74 miles.

The Middle Fork Snoqualmie River Road is the gateway to 109,000 acres of National Forest land and a primary access point for the Alpine Lake Wilderness. The road is located in the eastern half of King County, less than an hour drive from the population in the Seattle area. There is high recreational usage along this route which must accommodate a diverse mix of users including bicyclists, pedestrians, cars, recreational vehicles, timber haulers and trucks.

The existing road is paved for the first 1.3 miles with the remaining portion being gravel. Roadway widths vary from 15 to 28 feet and are not safe to accommodate the mix and volume of traffic. In addition to narrowness, the road surface ruts and potholes badly during winter months causing unsafe and erratic driving conditions. The present road surface is nearly unbladable for maintenance because of the absence of cushion and graded aggregate. The road also is deficient in drainage causing silt laden runoff to empty directly into surface waters. The overall purpose of the proposed project is to improve the physical conditions and safety features of the Middle Fork Snoqualmie River Road for the existing and projected traffic demand, while minimizing adverse impacts to sensitive environmental resources.

Project objectives will be based on the needs developed during the scoping process. All improvements must be consistent with the applicable guidelines from the Mt. Baker-Snoqualmie Forest Plan, the Middle Fork Snoqualmie Access/Travel Plan, King County plans and ordinances, Washington state regulations and federal regulations.

Alternatives under consideration include (1) taking no action; (2) improving the existing two lane road to meet the appropriate Washington state design criteria; (3) improving the existing two lane road to meet the appropriate American Association of State Highway and Transportation Officials (AASHTO) design criteria; (4) other alternatives that maybe developed during the NEPA process.

Notices describing the proposed action and soliciting comments will be sent to appropriate Federal, State, and local agencies, and to private organizations and citizens who have previously expressed interest in this proposal. Based in part on data collected and comments received, FHWA has determined that it will prepare an EIS on the proposed project. Comments previously received will be utilized during the EIS process. Additional interagency and public scoping activities will be conducted. The time and place of the public scoping activities will be provided in the local news media and by notice to individuals and agencies that have expressed interest in the proposal. The draft EIS will be available for public and agency review and comment. Schedules for these activities will be distributed when available this summer.

To ensure that the full range of issues related to this proposed action are addressed and all significant issues identified, comments and suggestions are invited from all interested parties. Previous comments received by FHWA have identified a number of issues such as impacts to private landowners, water quality, wetlands and wildlife, as well as slope stability, tree removal and parking along the roadway. Comments or questions concerning this proposed action and the EIS should be directed to the FHWA at the address provided above.

(Catalog of Federal Domestic Assistance Program Number 20.205, Highway Research, Planning and Construction. The regulations implementing Executive Order 12372 regarding intergovernmental consultation on Federal programs and activities apply to this program.)

Authority: 23 U.S.C. 315; 49 CFR 1.48.

Ronald W. Carmichael,
Division Engineer, Federal Highway Administration.

[FR Doc. 01-10539 Filed 4-26-01; 8:45 am]

BILLING CODE 4910-22-M